DEPARTMENT OF HEALTH AND HUMAN SERVICES

Health Care Financing Administration

[HCFA-1137-N]

Medicare Program; Announcement of a Series of National and Regional Training Sessions To Provide Training to Medicare+Choice Organizations and Others Concerning Data Requirements, and the Timely and Accurate Submission of Physician and Hospital Outpatient Encounter Data To Support a Comprehensive Risk Adjustment Model.

AGENCY: Health Care Financing Administration (HCFA), HHS.

ACTION: Notice of meetings.

SUMMARY: This notice announces a series of national and regional training sessions to provide Medicare+Choice organizations, providers, practitioners, and others with appropriate technical training to enable them to submit timely and accurate physician and hospital outpatient encounter data. The national training sessions will address the following topics:

• Data requirements and edits for physician encounter data.

• Data requirements and edits for hospital outpatient encounter data.

Overview of Comprehensive Risk Adjustment models and timeline. Review of workflow associated with encounter data transactions. Communications and connectivity to the Palmetto Data Network and the Encounter Data Front-End Edits system.

• Tracking status and disposition of encounter data submissions.

• Review of training events and customer support services. The regional meetings will deal with the specific requirements for submission of physician encounter data and hospital outpatient encounter data.

NATIONAL TRAINING DATES: The Physician National Training session is scheduled for June 19, 2000 from 9 a.m. until 4 p.m., Eastern Time. The Hospital Outpatient National Training session is scheduled for September 15, 2000 from 9 a.m. until 4 p.m., Eastern Time.

NATIONAL ADDRESSES: The National meetings on June 19, 2000 and September 15, 2000 will be held in the HCFA Auditorium, 7500 Security Boulevard, Baltimore, Maryland, 21244-1850.

REGIONAL TRAINING DATES AND CITIES: The Physician Regional Training sessions will be held as follows:

Physician Encounter Data Training Schedule 2000

Date and Location

June 29-30, 2000:

BOSTON, MA—Sheraton Boston Hotel, 39 Dalton Street, Boston, MA 02199, (617) 236-2000

July 6-7, 2000:

SAN FRANCISCO, CA—Hotel Nikko, 222 Mason Street, San Francisco, CA 94102, (415) 394-1111

July 11-12, 2000:

CHICAGO, IL—The Drake Hotel, 140 East Walton Place, Chicago, IL 60611, (312) 787-2200

July 17-18, 2000:

ATLANTA, GA—Hyatt Regency, 265 Peachtree Street, NE, Atlanta, GA 30303, (404) 577-1234

The Hospital Outpatient Regional Training sessions will be held as follows:

Hospital Outpatient Encounter Data Training Schedule 2000

Date and Location

September 18-19, 2000:

SAN FRANCISCO, CA—San Francisco Airport, Marriott 1800 Old Bayshore Highway, Burlingame, CA 94010, (650) 692-9100

September 21-22, 2000:

ATLANTA, GA—Wyndham Atlanta, 160 Spring Street, Atlanta, GA 30303, (404) 688-8600

October 16-17, 2000:

CHICAGO, IL—Westin O'Hare, 6100 River Road, Rosemont, IL 60018, (847) 698-6000

October 19-20, 2000:

BOSTON, MA—Boston Park Plaza Hotel, 64 Arlington Street, Boston, MA 02116, (617) 426-2000

FOR FURTHER INFORMATION CONTACT: Encounter Data Representative at (301) 519-6700 or e-mail us with your questions at encounterdata@aspensys.com. Please refer to the HCFA Advisory Committees Information Lines 1(877) 449-5659 toll free or (410) 786-9379 local or via the Internet at hhtp:www.hcfa.gov/fac for additional information and updates on committee activities.

SUPPLEMENTARY INFORMATION:

Background

The Balanced Budget Act of 1997 (BBA) (Public Law 105-33) established the Medicare+Choice program. Under the BBA, we must implement a risk adjustment methodology that accounts for variations in per capita costs based on health status and other demographic factors for payment to Medicare+Choice organizations (M+COs). Risk adjustment implementation began January 1, 2000.

The BBA also gives us the authority to collect inpatient hospital data for discharges on or after July 1, 1997, and additional data for services occurring on or after July 1, 1998. Pending OMB approval, M+COs must submit physician and hospital outpatient encounter data on the following schedule:

• October 1, 2000: Submission of physician encounters begins.

• January 1, 2001: Submission of hospital outpatient encounters begin with dates of services retroactive to October 1, 2000.

This notice announces these training sessions to provide an opportunity for M+COs, providers, practitioners, and others to obtain information on the requirements for the collection of physician and hospital outpatient encounter data. These training sessions will also provide additional information on our data collection efforts, systems processes, training approach, and customer service support. Subsequent to these sessions we will implement user groups to facilitate ongoing discussions and training support. We are announcing these training sessions to provide physician and hospital outpatient data requirements and to allow individuals and organizations familiar with issues related to physician and hospital outpatient data collection to raise questions that can be answered in these and subsequent training sessions. The agenda for each session will include presentations by Aspen Systems Corporation, the encounter data training contractor, on related topics and will conclude with a question-and-answer period.

Registration

Registration for these training sessions is required and will be on a first-come, first-served basis, limited to two attendees per organization. A waiting list will be available for additional requests. Registration can be accomplished via the Internet at www.hcfa.gov/events or by completing a paper form available at the aforementioned Internet address. A confirmation notice will be sent to attendees upon finalization of registration.

Attendees will be provided with training materials at the time of the training session. We will accept written questions or requests for training materials either before the session or up to 14 days after the session. These written questions or requests must be sent to: Aspen Systems Corporation, ATTN: Wanda Keyes, Mail Stop 9Y, 2277 Research Boulevard, Rockville, Maryland 20850.

You may also contact Encounter Data Representative: Telephone Number: (301) 519-6700, Fax Number: (301) 519-6360, E-mail: encounterdata@aspensys.com.

(Authority: Sections 1851 through 1859 of the Social Security Act (42 U.S.C. 1395w-21 through 1395w-28))

(Catalog of Federal Domestic Assistance Program No. 93.773 Medicare—Hospital Insurance Program; and No. 93.774, Medicare—Supplementary Medical Insurance Program)

Dated: May 31, 2000.
Nancy-Ann Min DeParle,
Administrator, Health Care Financing Administration.

[FR Doc. 00-14091 Filed 6-2-00; 8:45 am]

BILLING CODE 4120-01-P